DEPARTMENT OF TRANSPORTATION

Coast Guard

[USCG-2002-11903]

National Boating Safety Advisory Council

AGENCY: Coast Guard, DOT.

ACTION: Notice of meetings.

SUMMARY: The National Boating Safety Advisory Council (NBSAC) and its subcommittees on regulatory review I of recreational boating safety regulations, boats and associated equipment, aftermarket marine equipment, and prevention through people will meet to discuss various issues relating to recreational boating safety. All meetings will be open to the public.

DATES: NBSAC will meet on Monday, April 22, 2002, from 8:30 a.m. to 5 p.m. and Tuesday, April 23 from 8:30 a.m. to noon. The Recreational Boating Safety Regulatory Review I Subcommittee will meet on Saturday, April 20, 2002, from 1:30 p.m. to 4:30 p.m. The Boats and Associated Equipment Subcommittee will meet on Sunday, April 21, 2002, from 9 a.m. to 12 noon. The Aftermarket Marine Equipment Subcommittee will meet on Sunday, April 21, 2002, from 1 p.m. to 3 p.m. The Prevention Through People Subcommittee will meet on Sunday, April 21, 2002, from 3:30 p.m. to 5:30 p.m. These meetings may close early if all business is finished. Written material and requests to make oral presentations should reach the Coast Guard on or before April 10, 2002. Requests to have a copy of your material distributed to each member of the committee or subcommittees should reach the Coast Guard on or before April 10, 2002.

ADDRESSES: NBSAC will meet at the Sheraton Inner Harbor Hotel, 300 South Charles Street, Baltimore, Maryland, 21201. The subcommittee meetings will be held at the same address. Send written material and requests to make oral presentations to Mr. Bruce Schmidt, Commandant (G-OPB-1), U.S. Coast Guard Headquarters, 2100 Second Street SW., Washington, DC 20593-0001. You may obtain a copy of this notice by calling the U. S. Coast Guard Infoline at 1-800-368-5647. This notice is available on the Internet at http://dms.dot.gov or at the Web Site for the Office of Boating Safety at URL address www.uscgboating.org.

FOR FURTHER INFORMATION CONTACT: Bruce Schmidt, Executive Director of NBSAC, telephone 202-267-0955, fax 202-267-4285.

SUPPLEMENTARY INFORMATION: Notice of these meetings is given under the Federal Advisory Committee Act, 5 U.S.C. App. 2.

Tentative Agendas of Meetings

National Boating Safety Advisory Council (NBSAC)

The agenda includes the following:

(1) Executive Director's report.

(2) Chairman's session.

(3) Recreational Boating Safety Regulatory Review I Subcommittee report

(4) Boats and Associated Equipment Subcommittee report

(5) Aftermarket Marine Equipment Subcommittee report

(6) Prevention Through People Subcommittee report

(7) Recreational Boating Safety Program report.

(8) Coast Guard Auxiliary report.

(9) Canadian Coast Guard report.

(10) National Association of State Boating Law Administrators Report.

(11) Update on recreational boat carbon monoxide issues.

(12) Update on personal flotation device issues.

(13) Discussion on Transportation Equity Act for the 21st Century reauthorization of Wallop-Breaux funding.

(14) Report on the results of survey of States regarding flare disposal.

(15) Discussion on canoe and kayak safety issues.

(16) Presentation on recreational boating statistics.

(17) Report on Recreational Boating Engagement Workshop.

Recreational Boating Safety Regulatory Review I Subcommittee

The agenda includes the following: (1) Review recreational boating safety regulations concerning administrative requirements for manufacturers and importers of recreational vessels (33 CFR part 179 and part 181, subparts B and C) and fire and explosion prevention requirements for manufacturers and importers of recreational vessels (33 CFR part 183, subparts I, J, and K).

(2) Present recommendations to the Council as to whether the current recreational boating safety regulations need to be changed or removed based on a review of need, technical accuracy, cost/benefit, problems and alternatives.

Boats and Associated Equipment Subcommittee

The agenda includes the following: (1) Discuss current regulatory projects, grants, contracts and new issues impacting boats and associated equipment.

Aftermarket Marine Equipment Subcommittee

The agenda includes the following: (1) Discuss current regulatory projects, grants, contracts and new issues impacting aftermarket marine equipment.

Prevention Through People Subcommittee

The agenda includes the following: (1) Discuss current regulatory projects, grants, contracts and new issues impacting prevention through people.

Procedural

All meetings are open to the public. Please note that the meetings may close early if all business is finished. At the Chairs' discretion, members of the public may make oral presentations during the meetings. If you would like to make an oral presentation at a meeting, please notify the Executive Director no later than April 10, 2002. Written material for distribution at a meeting should reach the Coast Guard no later than April 10, 2002. If you would like a copy of your material distributed to each member of the committee or subcommittee in advance of a meeting, please submit 25 copies to the Executive Director no later than April 10, 2002.

Information on Services for Individuals with Disabilities

For information on facilities or services for individuals With disabilities or to request special assistance at the meetings, contact the Executive Director as soon as possible.

Dated: March 25, 2002.
Kenneth T. Venuto,
Rear Admiral, U.S. Coast Guard, Director of Operations Policy.

[FR Doc. 02-7829 Filed 4-1-02; 8:45 am]

BILLING CODE 4910-15-P